ENVIRONMENTAL PROTECTION AGENCY

[EPA-R08-OPPT-2020-0013; FRL 10017-58-OMS]

Information Collection Request Submitted to OMB for Review and Approval; Comment Request; EPA Pollution Prevention (P2) Awards Program

AGENCY: Environmental Protection Agency (EPA).

ACTION: Notice.

SUMMARY: The Environmental Protection Agency (EPA) has submitted an information collection request (ICR), EPA Pollution Prevention (P2) Awards Program (EPA ICR Number 2614.01, OMB Control Number 2008-NEW) to the Office of Management and Budget (OMB) for review and approval in accordance with the Paperwork Reduction Act. This is a request for approval of a new collection. Public comments were previously requested via the Federal Register on June 11, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 19, 2021.

ADDRESSES: Submit your comments to EPA, referencing Docket ID No. EPA-R08-OPPT-2020-0013, online using www.regulations.gov (our preferred method) or by email to payan.melissa@epa.gov.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Melissa Payan, EPA R8 Land, Chemical and Redevelopment Division Pollution Prevention Program, (8LCR-CES), Environmental Protection Agency R8, 1595 Wynkoop St., Denver, CO 80202 telephone number: 303-312-6511; email address: payan.melissa@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA Pollution Prevention (P2) program is a voluntary program that encourages businesses/facilities to adopt P2 projects that reduce both financial costs (e.g. waste management and cleanup) and environmental costs (e.g. health problems and environmental damage). P2 is any practice that reduces environmental releases of hazardous substances, pollutants, or contaminants prior to entering a waste stream for recycling, treatment, or disposal. In other words, P2 is source reduction, the prevention of waste generation and environmental releases at the source. It is not treatment, minimization, or diversion of wastes. P2 conserves natural resources, including water and energy. Businesses or organizations may voluntarily submit an application for a P2 Award during the solicitation period. The solicitation period will be done on an annual basis and is open for approximately 2 months, once posted. The timing of open solicitation is dependent upon regional discretion but cannot be less than 40 business days. This ICR may be applicable to EPA Headquarters, as well as any of the 10 Regional Offices that choose to participate and implement a P2 Awards Program.

Form Numbers: EPA P2 Award Program Application, Form 5800-005.

Respondents/affected entities: Various types of businesses from all North American Industry Classification System (NAICS) codes. However, businesses need to be from a state in an EPA Region implementing this awards program.

Respondent's obligation to respond: Voluntary (Pollution Prevention Act (PPA) 42 U.S.C. 13101(a)(2) and 42 U.S.C. 13103(b)(13).

Estimated number of respondents: 150

Frequency of response: Annually on a voluntary basis.

Total estimated burden: 975 hours (per year). Burden is defined at 5 CFR 1320.3(b).

Total estimated cost: $90,422 (per year), includes no annualized capital or operation & maintenance costs.

Changes in the Estimates: This is a new information collection.

Courtney Kerwin,
Director, Regulatory Support Division.

[FR Doc. 2021-05698 Filed 3-18-21; 8:45 am]

BILLING CODE 6560-50-P